FEDERAL COMMUNICATIONS COMMISSION

Public Information Collections Approved by Office of Management and Budget

June 23, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0943

Expiration Date: 12/31/2000

Title: 47 CFR Section 54.809, Carrier Certification

Form No.: N/A

Respondents: Business or other for-profit.

Estimated Annual Burden: 27 respondents; 1.5 hours per response (avg.).; 40.5 total annual burden hours.

Estimated Annual Reporting and Recordkeeping Cost Burden: $0.

Frequency of Response: Annually.

Description: Section 54.809 of the Commission's rules requires each price cap or competitive local exchange carrier that wishes to receive universal service support to file an annual certification with the Universal Service Administrative Company (USAC) and the Commission. The certification must state that the carrier will use its interstate access universal service support only for the provision, maintenance, and upgrading of facilities and service for which the support is intended. The Commission and USAC will use the certifications to ensure that carriers comply with section 254(e) of the Telecommunications Act by using the interstate access universal service support only for the provision, maintenance, and upgrading of facilities and service for which the support is intended. Obligation to respond: Required to obtain or retain benefits.

OMB Control No.: 3060-0463

Expiration Date: 06/30/2003

Title: Telecommunications Services for Individuals with Hearing and Speech Disabilities and the Americans with Disabilities Act of 1990, 47 CFR Part 64 (Sections 64.601-64.605).

Form No.: N/A.

Respondents: Business or other for profit; State, Local or Tribal Government.

Estimated Annual Burden: 5052 respondents; 5.31 hours per response (avg). 26,832 total annual burden hours.

Estimated Annual Reporting and Recordkeeping Cost Burden: $0.

Frequency of Response: On occasion; Annually; Every five years; Recordkeeping; Third Party Disclosure.

Description: In a Report and Order issued in CC Docket 98-67, released March 6, 2000, the Commission amended the rules governing the delivery of telecommunications relay services (TRS) to expand the kinds of relay services available to consumers and to improve the quality of relay services. The Commission clarified some of the requirements in an Order on Reconsideration issued in CC Docket 98-67, released June 5, 2000. Title IV of the Americans with Disabilities Act of 1990 (ADA), which is codified at section 225 of the Communications Act of 1934, as amended requires the Commission to ensure that TRS is available, to the extent possible and in the most efficient manner, to individuals with hearing and speech disabilities in the United States. Section 225 defines relay service to be a telephone transmission service that provides the ability for an individual with a hearing or speech disability to engage in communication by wire or radio with a hearing individual in a manner functionally equivalent to someone without such a disability. Section 225 requires the Commission to ensure that interstate and intrastate relay services are available throughout the country and to establish regulations to ensure the quality of relay service. To fulfill this mandate, the Commission first issued rules in 1991. The rules are found at 47 CFR 64.601-64.605. Following are the information collection requirements contained in the rules approved by OMB.

Section 64.604(c)(1) requires states to maintain a log of consumer complaints including all complaints about TRS in the state, whether filed with the TRS provider or the State, and must retain the log until the next application for certification is granted. The log shall include, at a minimum, the date the complaint was filed, the nature of the complaint, the date of resolution, and an explanation of the resolution. Summaries of logs must be submitted annually to the Commission. (No. of respondents: 52 respondents; hours per response: 2 hours; total annual burden: 104 hours). Pursuant to Section 64.604(c)(2) states must submit to the Commission a contact person or office for TRS consumer information and complaints about intrastate TRS. Providers of interstate TRS must submit to the Commission a contact person or office for TRS consumer information and complaints about the provider's service. This submission must include, at a minimum, the name and address of the office that receives complaints, grievances, inquiries and suggestions, voice and TTY telephone numbers, fax number, e-mail address, and physical address to which correspondence should be sent. (No. of respondents: 52 respondents; hours per response: 1 hour; total annual burden: 52 hours). Pursuant to 47 CFR 64.604(b)(2) TRS providers must answer 85% of all relay calls within 10 seconds by a CA prepared to place the TRS call at the time. The calculation of whether a provider is in compliance with the “85-10 rule” must be performed on at least a daily basis. (No. of respondents: 31 respondents; hours per response: 365 hours; total annual burden: 11,315 hours). Pursuant to 47 CFR 64.604(a)(2), STS CAs may retain information from a particular call in order to facilitate the completion of consecutive calls, at the request of the user. The CA may retain the information only for as long as it takes to complete the subsequent calls. Relay providers must offer STS users the option to maintain at the relay center a list of names and telephone numbers which the STS users call. When the STS users requests one of these names, the CA must repeat the name and state the telephone number to the STS users. See 47 CFR 64.604(a)(7). Pursuant to Section 64.604(b)(6), relay providers shall electronically capture recorded messages and retain them for the length of the call. See 47 CFR 64.604(b)(6). (No. of respondents: 31; hours per response: 1 hour; total annual burden: 31 hours). 47 CFR 64.604(c)(3) requires carriers, through publications in their directories, periodic billing inserts, placement of TRS instructions in telephone directories, through directory assistance services, and incorporation of TTY numbers in telephone directories, shall assure that callers in their service areas are aware of the availability and use of all forms of TRS. (No. of respondents: 5,000 respondents: hours per response: 1 hour; total annual burden: 5,000 hours). 47 CFR 64.604(c)(iii)(5)(C) requires TRS providers to provide the administrator with true and adequate data necessary to determine TRS fund revenue requirements and payments. TRS providers must provide the following: total TRS minutes of use, total interstate TRS minutes of use, total TRS operating expenses and total TRS investment in general accordance with Part 32 and other historical or projected information reasonably requested by the administrator for purposes of computing payments and revenue requirements. (No. of respondents: 13; hours per response: 3 hours; total annual burden; 39 hours). Pursuant to 47 CFR 64.604(c)(iii)(5)(E), in addition to the data required under paragraph (c)(5)(ii)(C) all TRS providers, including providers who are not interexchange carriers, local exchange carriers, or certified state relay providers, must submit reports of interstate TRS minutes of use to the administrator in order to receive payments. TRS providers receiving payments shall file a form prescribed by the administrator. (No. of respondents: 13; hours per response: 4 hours; total annual burden: 52 hours). 47 CFR 64.604(c)(iii)(5)(F) lists TRS providers who are eligible for receiving payments from the TRS fund. These providers must notify the administrator of their intent to participate in the TRS Fund thirty days prior to submitting reports of TRS interstate minutes of use in order to receive payment settlements for interstate TRS. Failure to file may exclude the TRS provider from eligibility for the year. (See 47 CFR 64.604(c)(iii)(5)(G)). Payments will only be made to eligible TRS providers operating in compliance with the mandatory minimum standards set forth in section 64.604. (No. of respondents: 13; hours per response: .166 hours; total annual burden: 2.16 hours). 47 CFR 64.604(c)(6)(v)(3) requires TRS providers to file with the Commission a statement designating an agent or agents whose principal responsibility will be to receive all complaints, inquiries, orders, decisions, and notices and other pronouncements forwarded by the Commission. Such designation shall include a name or department designation, business address, telephone number (voice and TTY), facsimile number and, if available, internet e-mail address. (No. of respondents: 32; hours per response: .50 hours; total annual burden: 16 hours). 47 CFR 64.604(c)(7) requires that all future contracts between the TRS administrator and the TRS vendor shall provide for the transfer of TRS customer profile data from the outgoing TRS vendor to the incoming TRS vendor. Such data must be disclosed in usable form at least 60 days prior to the provider's last day of service provision. (No. of respondents: 31 respondents; hours per response: 1 hour; total annual burden: 31 hours). 47 CFR 64.604(c)(6) establishes complaint procedures for TRS. The Commission modified its TRS complaints procedures by adopting informal complaint process for TRS complaints. The principal objective of the informal mechanism is to afford consumers and affected companies non-adversarial opportunities to resolve issues or concerns without expending the time, effort and money typically associated with our formal adjudicatory proceedings. The Commission retains its existing TRS complaint procedures as an option for consumers desiring formal adjudication of a complaint. (No. of respondents: 22; hours per response 5 hours; total annual burden: 110 hours). 47 CFR 64.605 describes the state certification procedures by which states may apply to assert jurisdiction over the provisions of intrastate TRS. States desiring to establish such jurisdiction are required to submit to the Commission documentation describing the program and the procedures and remedies available for enforcing any requirements imposed by that state program. The request must be submitted in narrative form, by the office of the governor or other delegated executive office of the state empowered to provide TRS. States applying for certification must submit documentation which: (1) Establishes that they meet or exceed all operational, technical, and functional minimum standards contained in Section 64.604; (2) establishes that the program makes available adequate procedures and remedies for enforcing the requirements of the state program; and (3) where a state program exceeds the mandatory minimum standards, the state must establish that its program in no way conflicts with federal law. Initial TRS certifications were issued on July 26, 1993. State certification remains in effect for five years, unless the certification is suspended or revoked (see 47 CFR 64.605). One year prior to the expiration of certification, a state may apply for renewal of its certification. (No. of respondents: 50; hours per response: 160 hours; total annual burden: 8000 hours). States are required to send written notification of substantive changes within 60 days of when they occur. A substantive change includes the replacement of the state program's TRS vendor, the opening of the state program to allow multiple vendors, any change in the underlying state statutes or regulations governing the state TRS program, and any change in the state program's current technology to provide TRS. (No. of respondents: 52; hours per response: 40 hours; total annual burden: 2080 hours). All the collections of information are promulgated pursuant to section 225 of the ADA which requires that the Commission ensures that telecommunications relay services are available to persons with hearing and speech disabilities in the United States. Information submitted to notify the Commission of substantive change to a certified state program will be used to determine whether the program is still certifiable under federal requirements. Also, as a condition of certification, the Commission will review the information submitted to notify the Commission of state's complaint procedures. These submissions address the concerns from TRS users that state programs are not providing sufficient information to consumers on their complaint and grievance options. The information submitted in the complaint logs will substantially help consumers and the Commission monitor the service quality of the relay service providers and the effectiveness of the state TRS programs by enabling the Commission to begin a dialogue with a particular state on particular issues or problems and enabling states to communicate with one another to learn how similar complaints have been resolved by other states. Obligation to respond: Mandatory.

OMB Control No.: 3060-0370

Expiration Date: 06/30/2003

Title: Part 32—Uniform System of Accounts for Telecommunications Companies

Form No.: N/A

Respondents: Business or other for profit.

Estimated Annual Burden: 239 respondents; 9540 hours per response (avg.); 2,280,080 total annual burden hours.

Estimated Annual Reporting and Recordkeeping Cost Burden: $0.

Frequency of Response: On occasion; Recordkeeping.

Description: The Uniform System of Accounts is a historical financial accounting system which reports the results of operational and financial events in a manner which enables both management and regulators to assess these results within a specified accounting period. Subject respondents are telecommunications companies. Entities having annual revenues from regulatory telecommunications operations of less than $100 million are designated as Class B and are subject to a less detailed accounting system than those designated as Class A companies. Section 220 of the Communications Act of 1934, as amended allows the Commission, in its discretion, to prescribe the forms of any and all accounts, records, and memoranda to be kept by carriers subject to this Act, including the accounts, records and memoranda of the movement of traffic, as well as of the receipts and expenditures of moneys. Section 219(b) authorizes the Commission by general or special orders to require any carrier subject to this Act to file monthly reports of earnings and expenses and to file periodical and/or special reports concerning any matters with respect to which the Commission is authorized or required by law to act. The information recorded in Part 32 accounts is used by the Commission to ensure that carriers meet a host of regulatory reporting requirements that depend on the consistent and accurate recordkeeping and reporting of accounting information. Obligation to respond: Mandatory.

OMB Control No.: 3060-0168

Expiration Date: 06/30/2003

Title: Reports of Proposed Changes in Depreciation Rates—Section 43.43.

Form No.: N/A

Respondents: Businesses or other for profit.

Estimated Annual Burden: 10 respondents; 4000 hours per response (avg.); 40,000 total annual burden hours.

Estimated Annual Reporting and Recordkeeping Cost Burden: $0.

Frequency of Response: On occasion; Recordkeeping.

Description: Section 220(b) of the Communications Act of 1934, as amended, states that the Commission may prescribe depreciation charges for the subject carriers. Section 219 of the Act requires annual and other reports from the carriers. Section 43.43 of the Commission's Rules establishes the reporting requirements for the depreciation prescription purposes. Communication common carriers with annual operating revenues of $112 million or more that the Commission has found to be dominant must file information specified in section 43.43 before making any change in the depreciation rates applicable to their operating plant. Section 220 also allows the Commission, in its discretion, to prescribe the forms of any and all accounts, records, and memoranda to be kept by carriers subject to the Act, including the accounts, records, and memoranda of the movement of traffic, as well as receipts and expenditures of moneys. In CC Docket No. 98-137, released December 30, 1999, the Commission streamlined the depreciation requirements for price cap incumbent local exchange carriers. For example, carriers will be required to file four summary exhibits, along with the underlying data used to generate them, and must provide the depreciation factors (i.e., life, salvage, curve shape, depreciation reserve) required to verify the calculation of the carriers' depreciation reserve. Mid-sized carriers are no longer required to file theoretical reserve studies. Certain price cap incumbent LECs in certain instances may request a waiver of the depreciation prescription process. The Commission also issued a Further Notice of Proposed Rulemaking in which it solicited public comment on additional changes to the depreciation requirements that could be eliminated for price-cap carriers in a manner that serves the public interest. The information filed is used by the Commission to establish proper depreciation rates to be charged by the carriers, pursuant to section 220(b) of the Act. The information serves as the basis for depreciation analyses made by the Common Carrier Bureau in establishing the depreciation rates. Obligation to respond: Mandatory.

OMB Control No.: 3060-0734

Expiration Date: 06/30/2003

Title: Accounting Safeguards, CC Docket No. 96-150 (47 USC Sections 260, 271-276 and 47 CFR Sections 53.209, 53.211 and 53.213)

Form No.: SEC 10-K

Respondents: Businesses or other for profit.

Estimated Annual Burden: 27 respondents; 6391 hours per response (avg.); 172,560 total annual burden hours.

Estimated Annual Reporting and Recordkeeping Cost Burden: $632,500.

Frequency of Response: On occasion; Biennially; Annually; Recordkeeping; Third Party Disclosure.

Description: In a Report and Order issued in CC Docket No. 96-150, the Commission addressed the accounting safeguards necessary to satisfy the requirements of Sections 260 and 271 through 276 of the Telecommunications Act of 1996. The Report and Order prescribed the way incumbent local exchange carriers (ILECs), including the Bell Operating Companies (BOCs), must account for transactions with affiliates involving, and allocate costs incurred in the provision of, both regulated telecommunications services and nonregulated services, including telemessaging, interLATA telecommunications and information services, telecommunications equipment and CPE manufacturing and others. The Commission concluded that when an electronic publishing separated affiliate already files a Form 10-K with the SEC, the separated affiliate may file the same Form 10-K with the Commission within 90 days after the end of the separated affiliate's fiscal year to satisfy section 274(f) of the 1996 Act. For each separated affiliate not subject to the SEC's Form 10-K requirement, the Commission concludes that the separated affiliate must also file a Form 10-K following the same filing requirements. In CC Docket No. 98-81, released June 30, 1999, the Commission modified the holding in the Report and Order and concluded that the information contained in the limited version of the SEC Form 10-K, with certain modifications, is sufficient to enable the Commission to monitor electronic publishing affiliates' compliance with the section 274 requirements. The Commission modified the limited Form 10-K filing requirements to exclude Item 5 and include Item 10. The required information enables the Commission to ensure that the subscribers to regulated telecommunications services to not bear the costs of these new nonregulated services and that transactions between affiliates and carriers will be at prices that do not ultimately result in unfair rates being charged to ratepayers. Obligation to respond: Mandatory.

OMB Control No.: 3060-0395

Expiration Date: 6/30/2003

Title: The ARMIS USOA Report; The ARMIS Service Quality Report; and The ARMIS Infrastructure Report.

Form Nos.: FCC 43-02; FCC 43-05; FCC 43-07.

Respondents: Business or other for profit.

Estimated Annual Burden: 50 respondents; 587.3 hours per response (avg.).; 29,366 total annual burden hours.

Estimated Annual Reporting and Recordkeeping Cost Burden: $0.

Frequency of Response: Annually.

Description: The USOA Report provides the annual results of the carriers' activities for each account of the Uniform System of Accounts. (No. of respondents: 50 respondents; hours per response: 295.4 hours; total annual burden: 14,770 hours). The Service Quality Report provides service quality information in the areas of interexchange access service, installation and repair intervals, local service installation and repair intervals, trunk blockage, and total switch downtime for price cap companies. (Recordkeeping requirement—No. of respondents: 12; hours per response: 844 hours; total annual hours: 10,128 hours. Reporting requirement: No. of respondents: 12; hours per response: 5.7 hours; total annual burden: 68.4 hours). The Infrastructure Report provides switch deployment and capabilities data. (No. of respondents: 8; hours per response: 550 hours; total annual burden: 4400 hours). Section 220 of the Communications Act of 1934, as amended, allows the Commission, at its discretion, to prescribe the forms of any and all accounts, records and memoranda to be kept by carriers subject to this Act, including the accounts, records and memoranda of the movement of traffic, as well as the receipts and expenditures of moneys. Section 219(b) authorizes the Commission by a general or special order to require any carrier subject to this Act to file monthly reports concerning any matters for which the Commission is authorized, or required by law, to act. The information collected in the reports provides the necessary detail to enable this Commission to fulfill its regulatory responsibilities. Automated reporting of these data greatly enhances the Commission's ability to process and analyze the extensive amounts of data it needs to administer its rules. ARMIS facilities the timely and efficient analysis of revenue requirements, rates of return and price caps, and provides an improved basis for auditing and other oversight functions. It also enhances the Commission's ability to quantify the effects of policy proposals. Obligation to respond: Mandatory. Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-16525 Filed 6-28-00; 8:45 am]

BILLING CODE 6712-01-P